DEPARTMENT OF COMMERCE

National Oceanic and Atmospheric Administration

[RTID 0648-XF511]

Pacific Fishery Management Council; Public Meeting

AGENCY: National Marine Fisheries Service (NMFS), National Oceanic and Atmospheric Administration (NOAA), Commerce.

ACTION: Notice of public meeting.

SUMMARY: The Pacific Fishery Management Council's (Pacific Council) Coastal Pelagic Species Management Team (CPSMT) will hold an online public meeting.

DATES: The online meeting will be held Tuesday, March 3, 2026, from 1 p.m. to 2 p.m. Pacific Standard Time or until business for the day has been completed.

ADDRESSES: This meeting will be held online. Specific meeting information, including directions on how to join the meeting and system requirements will be provided in the meeting announcement on the Pacific Council's website (see www.pcouncil.org). You may send an email to Mr. Hayden York (Hayden.York@pcouncil.org) or contact him at (503) 820-2424 for technical assistance.

Council address: Pacific Fishery Management Council, 7700 NE Ambassador Place, Suite 101, Portland, Oregon 97220-1384.

FOR FURTHER INFORMATION CONTACT: Katrina Bernaus, Staff Officer, Pacific Council; telephone: (503) 820-2420.

SUPPLEMENTARY INFORMATION: The primary purpose of this online meeting is a work session of the CPSMT to discuss matters related to the management cycle of the central subpopulation of northern anchovy and the Pacific Council's future meeting agenda and workload planning. No management actions will be decided by the CPSMT. CPSMT recommendations will be considered by the Pacific Council at the March 2026 Pacific Council meeting. The meeting agenda will be available on the Pacific Council's website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Hayden York (Hayden.York@pcouncil.org; (503) 820-2424) at least 10 days prior to the meeting date.

(Authority: 16 U.S.C. 1801 et seq.)

Dated: February 12, 2026.
Becky J. Curtis,
Acting Deputy Director, Office of Sustainable Fisheries, National Marine Fisheries Service.

[FR Doc. 2026-03166 Filed 2-17-26; 8:45 am]

BILLING CODE 3510-22-P